DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation (Acting), Department of Homeland Security, Federal Emergency Management Agency.

State and county | Location and case No. | Chief executive officer of community | Community map repository | Date of modification | Community No.
Alabama: Cullman (FEMA Docket No.: B-1807) | Unincorporated areas of Cullman County (17-04-5897P) | The Honorable Kenneth Walker, Chairman, Cullman County Board of Commissioners, 500 2nd Avenue Southwest, Cullman, AL 35055 | Cullman County Courthouse, 500 2nd Avenue Southwest, Cullman, AL 35055 | Apr. 27, 2018 | 010247
Arkansas: Benton (FEMA Docket No.: B-1807) | City of Lowell (17-06-3879P) | The Honorable Eldon Long, Mayor, City of Lowell, 216 North Lincoln Street, Lowell, AR 72745 | City Hall, 216 North Lincoln Street, Lowell, AR 72745 | Apr. 23, 2018 | 050342
Colorado:
Broomfield (FEMA Docket No.: B-1810) | City and County of Broomfield (17-08-0870P) | The Honorable Randy Ahrens, Mayor, City and County of Broomfield, 1 DesCombes Drive, Broomfield, CO 80020 | Community Development Department, 1 DesCombes Drive, Broomfield, CO 80020 | May 4, 2018 | 085073
Jefferson (FEMA Docket No.: B-1807) | City of Lakewood (17-08-0933P) | The Honorable Adam A. Paul, Mayor, City of Lakewood, 470 South Allison Parkway, Lakewood, CO 80226 | Engineering Department, 470 South Allison Parkway, Lakewood, CO 80226 | Apr. 20, 2018 | 085075
Jefferson (FEMA Docket No.: B-1810) | City of Westminster (17-08-0870P) | The Honorable Herb Atchison, Mayor, City of Westminster, 4800 West 92nd Avenue, Westminster, CO 80031 | City Hall, 4800 West 92nd Avenue, Westminster, CO 80031 | May 4, 2018 | 080008
Jefferson (FEMA Docket No.: B-1807) | Unincorporated areas of Jefferson County (17-08-0933P) | The Honorable Libby Szabo, Chair, Jefferson County Board of Commissioners, 100 Jefferson County Parkway, Suite 5550, Golden, CO 80419 | Jefferson County Planning and Zoning Division, 100 Jefferson County Parkway, Suite 3550, Golden, CO 80419 | Apr. 20, 2018 | 080087
Teller (FEMA Docket No.: B-1810) | City of Woodland Park (17-08-0477P) | The Honorable Neil Levy, Mayor, City of Woodland Park, P.O. Box 9007, Woodland Park, CO 80866 | City Hall, 220 West South Avenue, Woodland Park, CO 80866 | Apr. 19, 2018 | 080175
Teller (FEMA Docket No.: B-1810) | Unincorporated areas of Teller County (17-08-0477P) | The Honorable Dave Paul, Chairman, Teller County Board of Commissioners, P.O. Box 959, Cripple Creek, CO 80813 | Teller County Planning Department, 800 Research Drive, Woodland Park, CO 80863 | Apr. 19, 2018 | 080173
Weld (FEMA Docket No.: B-1807) | Town of Windsor (17-08-0666P) | Mr. Kelly Arnold, Manager, Town of Windsor, 301 Walnut Street, Windsor, CO 80550 | Town Hall, 301 Walnut Street, Windsor, CO 80550 | Apr. 30, 2018 | 080264
Weld (FEMA Docket No.: B-1807) | Unincorporated areas of Weld County (17-08-0666P) | The Honorable Julie Cozad, Chair, Weld County Board of Commissioners, P.O. Box 758, Greeley, CO 80632 | Weld County Commissioner's Office, 915 10th Street, Greeley, CO 80632 | Apr. 30, 2018 | 080266
Florida:
Charlotte (FEMA Docket No.: B-1810) | Unincorporated areas of Charlotte County (17-04-7978P) | The Honorable Bill Truex, Chairman, Charlotte County Board of Commissioners, 18500 Murdock Circle, Suite 536, Port Charlotte, FL 33948 | Charlotte County Community Development Department, 18500 Murdock Circle, Port Charlotte, FL 33948 | Apr. 26, 2018 | 120061
Charlotte (FEMA Docket No.: B-1807) | Unincorporated areas of Charlotte County (18-04-0115P) | The Honorable Bill Truex, Chairman, Charlotte County Board of Commissioners, 18500 Murdock Circle, Suite 536, Port Charlotte, FL 33948 | Charlotte County Community Development Department, 18400 Murdock Circle, Port Charlotte, FL 33948 | Apr. 20, 2018 | 120061
Collier (FEMA Docket No.: B-1807) | Unincorporated areas of Collier County (18-04-0104P) | The Honorable Penny Taylor, Chair, Collier County Board of Commissioners, 3299 East Tamiami Trail, Suite 303, Naples, FL 34112 | Collier County Administrative Building, 3301 East Tamiami Trail, Building F, 1st Floor, Naples, FL 34112 | Apr. 27, 2018 | 120067
Monroe (FEMA Docket No.: B-1807) | Unincorporated areas of Monroe County (18-04-0288P) | The Honorable David Rice, Mayor, Monroe County Board of Commissioners, 500 Whitehead Street, Suite 102, Key West, FL 33040 | Monroe County Building Department, 2798 Overseas Highway, Suite 300, Key West, FL 33050 | Apr. 26, 2018 | 125129
Monroe (FEMA Docket No.: B-1807) | Unincorporated areas of Monroe County (18-04-0313P) | The Honorable David Rice, Mayor, Monroe County Board of Commissioners, 500 Whitehead Street, Suite 102, Key West, FL 33040 | Monroe County Building Department, 2798 Overseas Highway, Suite 300, Key West, FL 33050 | Apr. 30, 2018 | 125129
Osceola (FEMA Docket No.: B-1807) | City of St. Cloud (17-04-5506P) | The Honorable Nathan Blackwell, Mayor, City of St. Cloud, 1300 9th Street, St. Cloud, FL 34769 | Public Works Department, 1300 9th Street, St. Cloud, FL 34769 | Apr. 30, 2018 | 125191
Palm Beach (FEMA Docket No.: B-1810) | City of Riviera Beach (17-04-6959P) | The Honorable Thomas A. Masters, Mayor, City of Riviera Beach, 600 West Blue Heron Boulevard, Riviera Beach, FL 33404 | Department of Community Development, 600 West Blue Heron Boulevard, Riviera Beach, FL 33404 | May 4, 2018 | 125142
Palm Beach (FEMA Docket No.: B-1810) | Unincorporated areas of Palm Beach County (17-04-6959P) | The Honorable Melissa McKinlay, Mayor, Palm Beach County, 301 North Olive Avenue, Suite 1201, West Palm Beach, FL 33401 | Palm Beach County Building Department, 2300 North Jog Road, West Palm Beach, FL 33411 | May 4, 2018 | 120192
Georgia:
Hall (FEMA Docket No.: B-1807) | City of Flowery Branch (17-04-5316P) | The Honorable James “Mike” Miller, Mayor, City of Flowery Branch, P.O. Box 757, Flowery Branch, GA 30542 | Community Development Department, 5512 Main Street, Flowery Branch, GA 30542 | Apr. 30, 2018 | 130333
Hall (FEMA Docket No.: B-1807) | Unincorporated areas of Hall County (17-04-5316P) | The Honorable Richard Higgins, Chairman, Hall County Board of Commissioners, P.O. Drawer 1435, Gainesville, GA 30504 | Hall County Engineering Division, 2875 Browns Bridge Road, Gainesville, GA 30504 | Apr. 30, 2018 | 130466
Houston (FEMA Docket No.: B-1807) | City of Warner Robins (17-04-4313P) | The Honorable Randy Toms, Mayor, City of Warner Robins, 700 Watson Boulevard, Warner Robins, GA 31093 | Engineering Department, 610B Watson Boulevard, Warner Robins, GA 31093 | Apr. 19, 2018 | 130111
Tift (FEMA Docket No.: B-1807) | City of Tifton (17-04-7716P) | The Honorable Julie Smith, Mayor, City of Tifton, 130 1st Street East, Tifton, GA 31793 | Public Works Department, 1000 Armour Road, Tifton, GA 31794 | Apr. 30, 2018 | 130171
Tift (FEMA Docket No.: B-1807) | Unincorporated areas of Tift County (17-04-7716P) | The Honorable Grady Thompson, Chairman, Tift County Commission, 225 North Tift Avenue, Tifton, GA 31794 | Tift County Development Support Services Department, 225 North Tift Avenue, Tifton, GA 31794 | Apr. 30, 2018 | 130404
Louisiana: Lafayette (FEMA Docket No.: B-1807) | Unincorporated areas of Lafayette Parish (17-06-3167P) | The Honorable Joel Robideaux, Mayor-President, Lafayette Consolidated, Government, P.O. Box 4017-C, Lafayette, LA 70502 | Lafayette Parish Department of Planning and Development, 220 West Willow Street, Building B, Lafayette, LA 70501 | Apr. 16, 2018 | 220101
Maine: Knox (FEMA Docket No.: B-1810) | Town of Isle au Haut (17-01-1368P) | The Honorable Peggi Stevens, Chair, Town of Isle au Haut Board of Selectmen, P.O. Box 71, Isle au Haut, ME 04645 | Town Hall, 1 Main Street, Isle au Haut, ME 04645 | Apr. 6, 2018 | 230227
New Mexico:
Sierra (FEMA Docket No.: B-1807) | City of Truth or Consequences (17-06-2009P) | Mr. Juan Fuentes, Manager, City of Truth or Consequences, 505 Sims Street, Truth or Consequences, NM 87901 | City Hall, 505 Sims Street, Truth or Consequences, NM 87901 | Apr. 23, 2018 | 350073
Sierra (FEMA Docket No.: B-1807) | Unincorporated areas of Sierra County (17-06-2009P) | The Honorable Kenneth Lyon, Chairman, Sierra County Commission, 855 Van Patten Street, Truth or Consequences, NM 87901 | Sierra County Administration Office, 855 Van Patten Street, Truth or Consequences, NM 87901 | Apr. 23, 2018 | 350071
Sierra (FEMA Docket No.: B-1807) | Village of Williamsburg (17-06-2009P) | The Honorable Deb Stubblefield, Mayor, Village of Williamsburg, P.O. Box 150, Williamsburg, NM 87942 | Sierra County Administration Office, 855 Van Patten Street, Truth or Consequences, NM 87901 | Apr. 23, 2018 | 350074
New York:
Erie (FEMA Docket No.: B-1803) | City of Lackawanna (17-02-1965P) | The Honorable Geoffrey M. Szymanski, Mayor, City of Lackawanna, 714 Ridge Road, Lackawanna, NY 14218 | City Hall, 714 Ridge Road, Lackawanna, NY 14218 | May 2, 2018 | 360247
Erie (FEMA Docket No.: B-1803) | Town of Hamburg (17-02-1965P) | The Honorable Steven J. Walters, Chairman, Town of Hamburg Board of Supervisors, 6100 South Park Avenue, Hamburg, NY 14075 | Town Hall, 6100 South Park Avenue, Hamburg, NY 14075 | May 2, 2018 | 360244
Erie (FEMA Docket No.: B-1803) | Town of West Seneca (17-02-1965P) | The Honorable Sheila M. Meegan, Chair, Town of West Seneca Board of Supervisors, 1250 Union Road, West Seneca, NY 14224 | Town Hall, 1250 Union Road, West Seneca, NY 14224 | May 2, 2018 | 360262
North Carolina:
Mecklenburg (FEMA Docket No.: B-1810) | Town of Huntersville (17-04-6263P) | The Honorable John Aneralla, Mayor, Town of Huntersville, P.O. Box 664, Huntersville, NC 28070 | Planning Department, 105 Gilead Road, 3rd Floor, Huntersville, NC 28078 | May 4, 2018 | 370478
Mitchell (FEMA Docket No.: B-1821) | Unincorporated areas of Mitchell County (17-04-0891P) | The Honorable Vern Grindstaff, Chairman, Mitchell County Board of Commissioners, 26 Crimson Laurel Circle, Suite 2, Bakersville, NC 28705 | Mitchell County Building Inspections Department, 130 Forest Service Drive, Suite B, Bakersville, NC 28705 | May 3, 2018 | 370161
Pennsylvania: Lycoming (FEMA Docket No.: B-1807) | Borough of South Williamsport (17-03-1817P) | The Honorable J. Bernard Schelb, President, Borough of South Williamsport Council, 329 West Southern Avenue, South Williamsport, PA 17702 | Planning and Community Development Department, Hazard Mitigation Division, 48 West 3rd Street, South Williamsport, PA 17701 | Apr. 12, 2018 | 420658
South Carolina:
Charleston (FEMA Docket No.: B-1807) | City of Charleston (17-04-7085P) | The Honorable John J. Tecklenburg, Mayor, City of Charleston, P.O. Box 652, Charleston, SC 29402 | Engineering Division, 2 George Street, Charleston, SC 29401 | Apr. 30, 2018 | 455412
Lancaster (FEMA Docket No.: B-1807) | Unincorporated areas of Lancaster County (17-04-5698P) | The Honorable Steve Harper, Chairman, Lancaster County Council, 101 North Main Street, 2nd Floor, Lancaster, SC 29721 | Lancaster County Zoning Department, 101 North Main Street, Lancaster, SC 29721 | Apr. 23, 2018 | 450120
Tennessee:
Williamson (FEMA Docket No.: B-1807) | City of Franklin (17-04-8021P) | The Honorable Ken Moore, Mayor, City of Franklin, 109 3rd Avenue South, Franklin, TN 37064 | Building and Neighborhood Services Department, 109 3rd Avenue South, Franklin, TN 37064 | Apr. 13, 2018 | 470206
Wilson (FEMA Docket No.: B-1810) | City of Lebanon (17-04-4038P) | The Honorable Bernie Ash, Mayor, City of Lebanon, 200 North Castle Heights Avenue, Suite 100, Lebanon, TN 37087 | Engineering Department, 200 North Castle Heights Avenue, Suite 300, Lebanon, TN 37087 | May 4, 2018 | 470208
Wilson (FEMA Docket No.: B-1810) | Unincorporated areas of Wilson County (17-04-4038P) | The Honorable Randall Hutto, Mayor, Wilson County, 228 East Main Street, Lebanon, TN 37087 | Wilson County Planning Department, 228 East Main Street, Lebanon, TN 37087 | May 4, 2018 | 470207
Texas:
Collin (FEMA Docket No.: B-1810) | City of Anna (17-06-1736P) | The Honorable Nate Pike, Mayor, City of Anna, P.O. Box 776, Anna, TX 75409 | City Hall, 120 West 4th Street, Anna, TX 75409 | Apr. 16, 2018 | 480132
Collin (FEMA Docket No.: B-1810) | Unincorporated areas of Collin County (17-06-1736P) | The Honorable Keith Self, Collin County Judge, 2300 Bloomdale Road, Suite 4192, McKinney, TX 75071 | Collin County Engineering Department, 4690 Community Avenue, Suite 200, McKinney, TX 75071 | Apr. 16, 2018 | 480130
Denton (FEMA Docket No.: B-1807) | City of Denton (17-06-0580P) | The Honorable Chris A. Watts, Mayor, City of Denton, 215 East McKinney Street, Denton, TX 76201 | Engineering Department, 901-A Texas Street, Denton, TX 76509 | May 4, 2018 | 480194
Harris (FEMA Docket No.: B-1807) | Unincorporated areas of Harris County (17-06-4282P) | The Honorable Edward M. Emmett, Harris County Judge, 1001 Preston Street, Suite 911, Houston, TX 77002 | Harris County Permit Office, 10555 Northwest Freeway, Suite 120, Houston, TX 77092 | Apr. 30, 2018 | 480287
Tarrant (FEMA Docket No.: B-1807) | City of Fort Worth (17-06-4080P) | The Honorable Betsy Price, Mayor, City of Fort Worth, 200 Texas Street, Fort Worth, TX 76102 | Transportation and Public Works Department, 200 Texas Street, Fort Worth, TX 76102 | Apr. 27, 2018 | 480596
Tarrant (FEMA Docket No.: B-1807) | City of River Oaks (17-06-4080P) | The Honorable Herman Earwood, Mayor, City of River Oaks, 4900 River Oaks Boulevard, River Oaks, TX 76114 | City Hall, 4900 River Oaks Boulevard, River Oaks, TX 76114 | Apr. 27, 2018 | 480609
Tarrant (FEMA Docket No.: B-1807) | City of Sansom Park (17-06-4080P) | The Honorable Jim Barnett, Jr., Mayor, City of Sansom Park, 5705 Azle Avenue, Sansom Park, TX 76114 | City Hall, 5705 Azle Avenue, Sansom Park, TX 76114 | Apr. 27, 2018 | 480611
Travis (FEMA Docket No.: B-1807) | City of Bee Cave (17-06-2595P) | The Honorable Caroline Murphy, Mayor, City of Bee Cave, 4000 Galleria Parkway, Bee Cave, TX 78738 | Department of Planning and Development, 4000 Galleria Parkway, Bee Cave, TX 78738 | Apr. 12, 2018 | 480610
Travis (FEMA Docket No.: B-1807) | Unincorporated areas of Travis County (17-06-2595P) | The Honorable Sarah Eckhardt, Travis County Judge, P.O. Box 1748, Austin, TX 78767 | Travis County Transportation and Natural Resources Division, 700 Lavaca Street, Suite 540, Austin, TX 78701 | Apr. 12, 2018 | 481026
Utah: Cache (FEMA Docket No.: B-1807) | City of Hyrum (17-08-0954P) | The Honorable Stephanie Miller, Mayor, City of Hyrum, 60 West Main Street, Hyrum, UT 84319 | City Hall, 60 West Main Street, Hyrum, UT 84319 | Apr. 25, 2018 | 490017
Virginia: Prince William (FEMA Docket No.: B-1807) | Unincorporated areas of Prince William County (17-03-1502P) | Mr. Christopher E. Martino, Prince William County Executive, 1 County Complex Court, Woodbridge, VA 22192 | Prince William County Department of Public Works, 5 County Complex Court, Suite 170, Woodbridge, VA 22192 | Apr. 26, 2018 | 510119

[FR Doc. 2018-12248 Filed 6-6-18; 8:45 am]

BILLING CODE 9110-12-P